DEPARTMENT OF THE INTERIOR

Fish and Wildlife Service

Draft Recovery Plan for Phlox hirsuta (Yreka Phlox)

AGENCY: U.S. Fish and Wildlife Service, Interior.

ACTION: Notice of document availability for review and comment.

SUMMARY: The U.S. Fish and Wildlife Service (“we”) announces the availability of the Draft Recovery Plan for Phlox hirsuta (Yreka Phlox) for public review and comment.

DATES: Comments on the draft recovery plan must be received on or before October 18, 2004.

ADDRESSES: Copies of the draft recovery plan are available for inspection, by appointment, during normal business hours at the following location: U.S. Fish and Wildlife Service, Yreka Fish and Wildlife Office, 1829 South Oregon Street, Yreka, California (telephone (530) 842-5763). Requests for copies of the draft recovery plan and written comments and materials regarding this plan should be addressed to Phil Detrich, Field Supervisor, at the above Yreka address. An electronic copy of the draft revised recovery plan is also available at: http://endangered.fws.gov/recovery/index.html#plans.

FOR FURTHER INFORMATION CONTACT: Nadine Kanim, Senior Fish and Wildlife Biologist, at the above Yreka address.

SUPPLEMENTARY INFORMATION:

Background

Recovery of endangered or threatened animals and plants is a primary goal of our endangered species program and the Endangered Species Act (Act) 16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

Phlox hirsuta is a narrow endemic plant known only from the vicinity of Yreka, California. Only four populations, separated by a minimum of 0.88 kilometers (0.55 miles), are currently known to occur. Distribution within these occurrences ranges from scattered plants to numerous discrete sub-occurrences. Phlox hirsuta occurs on lands owned and managed by the City of Yreka, the U. S. Forest Service, the California Department of Transportation, industrial timber companies, and private landowners.

The goal of this recovery plan is to establish criteria necessary to accomplish downlisting and eventually delisting of the species. The criteria for downlisting to threatened status are that: (1) four occurrences (two of which must be the China Hill and Soap Creek Ridge occurrences) have secure permanent protection (legally-binding arrangements that ensure management for the benefit of Phlox hirsuta in perpetuity); and (2) a Phlox hirsuta seed bank and effective propagation techniques have been established. The criteria for delisting are that: (1) the reclassification criteria for downlisting have been met; and (2) two additional occurrences have been located and permanently protected, or 10 years of demographic research and/or quantitative monitoring at four protected occurrences has indicated that plant population size has not declined more than 10 percent at any occurrence (total change between year 0 and year 10).

Public Comments Solicited

We solicit written comments on this draft recovery plan described. All comments received by the date specified above will be considered in developing a final recovery plan.

Authority: The authority for this action is section 4(f) of the Endangered Species Act, 16 U.S.C. 1533(f).

Dated: April 21, 2004.
Paul Henson,
Acting Manager, California/Nevada Operations Office, Region 1, U.S. Fish and Wildlife Service.

[FR Doc. 04-16345 Filed 7-16-04; 8:45 am]

BILLING CODE 4310-55-P